DEPARTMENT OF THE INTERIOR

National Park Service

Temporary Vehicle Restriction on U. S. Route 209

AGENCY: National Park Service, Delaware Water Gap, National Recreation Area.

ACTION: Temporary Vehicle Restriction on U.S. Route 209.

SUMMARY: The National Park Service (NPS), Delaware Water Gap National Recreation Area, in conjunction with the Federal Highway Administration, is repairing and reconstructing the Bushkill Creek Bridge along U.S. Route 209. During the repair and reconstruction period, Bushkill Creek Bridge will be closed. A detour route is available, but can only accommodate vehicles with a gross vehicle weight rating (GVWR) less than 15 tons. For this reason, NPS is instituting a temporary restriction of vehicles with a GVWR in excess of 15 tons (30,000 lbs GVWR) along U.S. Route 209 in the park. This temporary restriction will be in effect starting July 9, 2009 at 1800 hours and will remain in effect 24 hours a day until July 27, 2009 at 1800 hours.

DATES: July 9, 2009 at 1800 through July 27, 2009 at 1800.

ADDRESSES: Requests for copies of, and written comments on U.S. Route 209 closure should be sent to John J. Donahue, Superintendent, Delaware Water Gap, National Recreation Area, River Road, Bushkill, PA 18324.

FOR FURTHER INFORMATION CONTACT: John J. Donahue at (570) 426-2418.

SUPPLEMENTARY INFORMATION: The main problems to be corrected on the Bushkill Creek Bridge are moderate spalling throughout the north pier bearing area on both sides, which has partially undermined several bearing plates. Other problems being corrected are deterioration of the wearing surface, paint deterioration throughout the steel beams, and rusting of the bearing devices. Additionally, repairs are being made to several large vertical cracks in the abutment breastwalls, and large quantities of gravel and debris in the channel at the structure site. In the fall of 2008, Delaware Water Gap National Recreation Area maintenance employees performed and completed the gravel removal operation. In order to repair the wearing surface, milling and removal of 2″ of the bridge deck is required and needs to be replaced with new latex concrete. The process for milling, removal, and pouring of new latex concrete is 4 days with an additional 14 days for the curing of the new latex concrete, thus requiring the closure of the bridge for 18 consecutive days. During this time, vehicles with a GVWR less than 15 tons may use the identified detour route. Vehicles with a GVWR greater than 15 tons will not be able to use U.S. Route 209 in the park.

Public Availability of Comments: John J. Donahue, Superintendent, Delaware Water Gap, National Recreation Area, River Road, Bushkill, PA 18324.

Dated: May 5, 2009.
John J. Donahue,
Superintendent, Delaware Water Gap, National Recreation Area.

[FR Doc. E9-15021 Filed 6-24-09; 8:45 am]

BILLING CODE 4312-J6-P